COMMISSION ON CIVIL RIGHTS

Notice of Public Meeting of the Washington Advisory Committee

AGENCY: U.S. Commission on Civil Rights.

ACTION: Announcement of meetings.

SUMMARY: Notice is hereby given, pursuant to the provisions of the rules and regulations of the U.S. Commission on Civil Rights (Commission) and the Federal Advisory Committee Act that the Washington Advisory Committee (Committee) will hold a series of meetings via Webex on

Monday, January 11, and Monday, February 1, and Wednesday, February 17, 2021 from 2:30 p.m.-4:00 p.m. Pacific Time. The purpose of the meetings is for the Committee to begin planning their upcoming panels on police use of force and accountability.

DATES: These meetings will be held on:

• Monday, January 11, 2021 from 2:30 p.m.-4:00 p.m. Pacific Time

• Monday, February 1, 2021 from 2:30 p.m.-4:00 p.m. Pacific Time

• Wednesday, February 17, 2021 from 2:30 p.m.-4:00 p.m. Pacific Time

January 11th PUBLIC WEBEX REGISTRATION LINK: https://tinyurl.com/ycnnynbr

February 1st PUBLIC WEBEX REGISTRATION LINK: https://tinyurl.com/ya9xp7zj

February 17th PUBLIC WEEX REGISTRATION LINK: https://tinyurl.com/y8l3pojk

FOR FURTHER INFORMATION CONTACT: Brooke Peery, Designated Federal Officer (DFO), at bpeery@usccr.gov or by phone at (202) 701-1376.

SUPPLEMENTARY INFORMATION: Members of the public may listen to the discussion. This meeting is available to the public through the above listed toll free number. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be mailed to the Western Regional Office, U.S. Commission on Civil Rights, 300 N Los Angeles St., Suite 2010, Los Angeles, CA 90012 or email Brooke Peery at bpeery@usccr.gov.

Records generated from this meeting may be inspected and reproduced at the Regional Programs Unit Office, as they become available, both before and after the meeting. Records of the meeting will be available at: https://www.facadatabase.gov/FACA/FACAPublicViewCommitteeDetails?id=a10t0000001gzkZAAQ.

Please click on the “Meeting Details” and “Documents” links. Persons interested in the work of this Committee are also directed to the Commission's website, http://www.usccr.gov, or may contact the Regional Programs Unit office at the above email or street address.

Agenda

I. Welcome & Roll Call

II. Approval of Minutes

III. Discussion on Panels

IV. Public Comment

V. Adjournment

Dated: January 4, 2021.
David Mussatt,
Supervisory Chief, Regional Programs Unit.

[FR Doc. 2021-00042 Filed 1-6-21; 8:45 am]

BILLING CODE P